DEPARTMENT OF COMMERCE

International Trade Administration

[C-560-829]

Certain Uncoated Paper From Indonesia: Rescission of 2017 Countervailing Duty Administrative Review

AGENCY: Enforcement and Compliance, International Trade Administration, Department of Commerce.

SUMMARY: The Department of Commerce (Commerce) is rescinding the administrative review of the countervailing duty (CVD) order on certain uncoated paper from Indonesia for the period of review (POR) January 1, 2017, through December 31, 2017.

DATES: Applicable November 14, 2018.

FOR FURTHER INFORMATION CONTACT: David Goldberger or Darla Brown, AD/CVD Operations, Office II, Enforcement and Compliance, International Trade Administration, U.S. Department of Commerce, 1401 Constitution Avenue NW, Washington, DC 20230; telephone: (202) 482-4136 or (202) 482-1791, respectively.

Background

On March 5, 2018, Commerce published in the Federal Register a notice of opportunity to request an administrative review of the CVD order on certain uncoated paper from Indonesia for the POR.¹ On April 2, 2018, Commerce received a timely request from PT Anugerah Kertas Utama, PT Riau Andalan Kertas, and APRIL Fine Paper Macao Offshore Limited (collectively, APRIL), in accordance with section 751(a) of the Tariff Act of 1930, as amended (the Act) and 19 CFR 351.213(b), to conduct an administrative review of this CVD order.²

¹ See Antidumping or Countervailing Duty Order, Finding, or Suspended Investigation; Opportunity to Request Administrative Review, 83 FR 9284 (March 5, 2018).

² See Letter from APRIL, “Uncoated Paper from Indonesia,” dated April 2, 2018.

On May 2, 2018, Commerce published in the Federal Register a notice of initiation with respect to APRIL.³ On July 13, 2018, APRIL timely withdrew its request for an administrative review.⁴

³ See Initiation of Antidumping and Countervailing Duty Administrative Reviews, 83 FR 19215 (May 2, 2018).

⁴ See Letter from APRIL, “Certain Uncoated Paper from Indonesia: APRIL—Withdraw of Request for Administrative Review,” dated July 13, 2018.

Rescission of Review

Pursuant to 19 CFR 351.213(d)(1), the Secretary will rescind an administrative review, in whole or in part, if a party who requested the review withdraws the request within 90 days of the date of publication of notice of initiation of the requested review. As noted above, APRIL withdrew its request for review by the 90-day deadline, and no other party requested an administrative review of this order. Therefore, we are rescinding the administrative review of the CVD order on certain uncoated paper from Indonesia covering the period January 1, 2017, through December 31, 2017.

Assessment

Commerce will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). Commerce intends to issue appropriate assessment instructions directly to CBP 15 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

This notice is issued and published in accordance with section 777(i)(1) of the Act and 19 CFR 351.213(d)(4).

Dated: November 7, 2018.
James Maeder,
Associate Deputy Assistant Secretary for Antidumping and Countervailing Duty Operations performing the duties of Deputy Assistant Secretary for Antidumping and Countervailing Duty Operations.

[FR Doc. 2018-24791 Filed 11-13-18; 8:45 am]

BILLING CODE 3510-DS-P